DEPARTMENT OF ENERGY

Federal Energy Regulatory Commission

[Docket Nos. RP99-301-088 and GT01-25-007]

ANR Pipeline Company; Notice of Compliance Filing

October 17, 2003.

Take notice that on October 14, 2003, ANR Pipeline Company (ANR) tendered for filing four agreements with PCS Nitrogen Ohio, L.P., et al. in compliance with the Commission's May 23, 2003 Order in the above-referenced dockets.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the e-Filing.

Protest Date: October 27, 2003.

Magalie R. Salas,
Secretary.

[FR Doc. E3-00108 Filed 10-24-03; 8:45 am]

BILLING CODE 6717-01-P